OFFICE OF NATIONAL DRUG CONTROL POLICY

Leadership Conference on Medical Education in Substance Abuse, November 30-December 1, 2006

AGENCY: Office of National Drug Control Policy.

ACTION: Notice.

SUMMARY: A conference of leaders in the field of medical education in substance abuse will be held on Thursday, November 30 and Friday, December 1, 2006, at the Westin Embassy Row Hotel, Massachusetts Avenue, NW., Washington, DC. The conference will begin at 6 p.m. on Thursday, November 30 and conclude at 5:30 p.m. on Friday, December 1. The specific objectives of the Leadership Conference are: (1) To enhance awareness of the contribution substance abuse screening and brief intervention programs can make to public health in the United States; (2) To identify best practices to cope with emerging patterns of drug-specific abuse; (3) To receive reports on improvements in medical education in drug and alcohol-related disorders; and (4) To encourage the development of medical education curricula on alcohol and other drug related disorders. Members of the public who wish to attend the meeting should telephone ONDCP's Leadership Conference on Medical Education telephone line at (202) 395-6750 to arrange building access.

FOR FURTHER INFORMATION CONTACT: Martha Gagneá at (202) 395-6750.

Dated: October 24, 2006.
Linda V. Priebe,
Assistant General Counsel.

[FR Doc. E6-18089 Filed 10-27-06; 8:45 am]

BILLING CODE 3180-02-P